DEPARTMENT OF THE TREASURY

Internal Revenue Service

Advisory Group to the Internal Revenue Service Tax Exempt and Government Entities Division (TE/GE); Meeting

AGENCY: Internal Revenue Service (IRS), Treasury.

ACTION: Notice.

SUMMARY: The Advisory Committee on Tax Exempt and Government Entities (ACT) will hold a public meeting on Thursday, September 12, 2013.

FOR FURTHER INFORMATION, CONTACT: Mark Kirbabas, Acting Designated Federal Officer, TE/GE Communications and Liaison; 1111 Constitution Ave. NW.; SE:T:CL—NCA 679; Washington, DC 20224. Telephone: 202-283-9742 (not a toll-free number). Email address: Mark.J.Kirbabas@irs.gov.

SUPPLEMENTARY INFORMATION: By notice herein given, pursuant to section 10(a)(2) of the Federal Advisory Committee Act, 5 U.S.C. App. (1988), a public meeting of the ACT will be held on Thursday, September 12, 2013, from 9:30 a.m. to 11:30 a.m., at the Internal Revenue Service; 1111 Constitution Ave. NW.; Room 3313; Washington, DC. Issues to be discussed relate to Employee Plans, Exempt Organizations, and Government Entities.

Reports from five ACT subgroups cover the following topics:

Employee Plans

• Analysis and Recommendations Regarding the Employee Plans Compliance Resolution System (EPCRS)

Exempt Organizations

• Leveraging Limited IRS Resources in the Tax Administration of Small Tax-Exempt Organizations

Federal, State and Local Governments

• Leveraging Internal Controls of State and Local Governments to Improve Tax Compliance

• Government Levy Processing Improvements

Indian Tribal Governments

• Supplemental Report on the General Welfare Doctrine as Applied to Indian Tribal Governments and Their Members

Tax Exempt Bonds

• A Roadmap To Arbitrage Requirements For Tax-Exempt Governmental Bonds and Qualified Section 501(c)(3) Bonds of Smaller Issuers and Conduit Borrowers

Last minute agenda changes may preclude advance notice. Due to limited seating and security requirements, attendees must call Cynthia Phillips-Grady to confirm their attendance. Ms. Phillips-Grady can be reached at (202) 283-9954.

Attendees are encouraged to arrive at least 30 minutes before the meeting begins to allow sufficient time for security clearance. Photo identification must be presented. Please use the main entrance at 1111 Constitution Ave. NW., to enter the building. Should you wish the ACT to consider a written statement, please call (202) 283-9742, or write to: Internal Revenue Service; 1111 Constitution Ave. NW.; SE:T:CL—NCA-679; Washington, DC 20224, or email Mark.J.Kirbabas@irs.gov.

Dated: August 22, 2013.
Mark J. Kirbabas,
Acting Designated Federal Officer, Tax Exempt and Government Entities Division.

[FR Doc. 2013-20951 Filed 8-27-13; 8:45 am]

BILLING CODE 4830-01-P